DEPARTMENT OF HEALTH AND HUMAN SERVICES

Centers for Disease Control and Prevention

Disease, Disability, and Injury Prevention and Control Special Emphasis Panel (SEP): Strengthening National Capacity in Malaria and Other Infectious Disease Operations Research, Funding Opportunity Announcement (FOA) CK09-004, Initial Review

In accordance with Section 10(a)(2) of the Federal Advisory Committee Act (Pub. L. 92-463), the Centers for Disease Control and Prevention (CDC) announces the aforementioned meeting.

Time and Date: 2:30 p.m.-4:30 p.m., July 28, 2009 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of “Strengthening National Capacity in Malaria and Other Infectious Disease Operations Research, Funding Opportunity Announcement (FOA) CK09-004.” This meeting was initially held June 1, 2009. A reviewer was unable to participate unexpectedly and the meeting was held in the absence of the required quorum; therefore, the panel will be reconvened to review the application received in response to the announcement.

FOR FURTHER INFORMATION CONTACT: Wendy Carr, PhD, CDC, 1600 Clifton Road, NE., Mailstop D60, Atlanta, GA 30333, Telephone: (404) 498-2276.

The Director, Management Analysis and Services Office, has been delegated the authority to sign Federal Register notices pertaining to announcements of meetings and other committee management activities, for both CDC and the Agency for Toxic Substances and Disease Registry.

Dated: July 7, 2009.
Elaine L. Baker,
Director, Management Analysis and Services Office, Centers for Disease Control and Prevention.

[FR Doc. E9-16461 Filed 7-10-09; 8:45 am]

BILLING CODE 4163-18-P